CORPORATION FOR NATIONAL AND COMMUNITY SERVICE

Agency Information Collection Activities; Submission to the Office of Management and Budget for Review and Approval; Comment Request; Senior Corps Project Progress Report; Proposed Information Collection; Comment Request

AGENCY: Corporation for National and Community Service.

ACTION: Notice.

SUMMARY: The Corporation for National and Community Service (CNCS) has submitted a public information collection request (ICR) entitled Senior Corps Project Progress Report for review and approval in accordance with the Paperwork Reduction Act.

DATES: Comments may be submitted, identified by the title of the information collection activity, by November 6, 2019.

ADDRESSES: Direct written comments and/or suggestions regarding the items contained in this Notice to the Attention: CNCS Desk Officer, Office of Information and Regulatory Affairs, Office of Management and Budget, 725 17th Street NW, Washington, DC 20503 or by fax to (202) 395-5806. Provide written comments within 30 days of Notice publication.

FOR FURTHER INFORMATION CONTACT: Copies of this ICR, with applicable supporting documentation, may be obtained by calling the Corporation for National and Community Service, Anne Otih, at 202-606-7570 or by email to aotih@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 18, 2019 at Vol. 84, No. 138. This comment period ended September 16, 2019. No public comments were received from this Notice.

Title of Collection: Senior Corps Project Progress Report (PPR).

OMB Control Number: 3045-0033.

Type of Review: Renewal.

Respondents/Affected Public: Sponsors of Senior Corps Grants.

Total Estimated Number of Annual Responses: 1,100.

Total Estimated Number of Annual Burden Hours: 17,600 (Work Plans and narratives, semi-annual: Four hours per response. Progress Report Supplemental, annual: eight hours per response.).

Abstract: The Progress Report (PPR) was designed to ensure that Senior Corps' programs (RSVP, Foster Grandparent, and Senior Companion Programs) address and fulfill legislated program purposes; meet agency program management and grant requirements; track and measure progress to benefit the local project and its contributions to senior volunteers and the community; and report progress toward work plan objectives agreed upon in the granting of the award. The resulting data is used by grantees and CNCS to track performance and inform continued grant funding support, as well as to identify trends and to support management and analysis. CNCS seeks to renew and revise current OMB approved PPR to align with recent national performance measures changes and to remove administrative burdens. CNCS also seeks to continue using the current tool until the revised application is approved by OMB. The current tool is due to expire on December 31, 2019.

Dated: October 1, 2019.
Deborah Cox-Roush,
Director, Senior Corps.

[FR Doc. 2019-21711 Filed 10-4-19; 8:45 am]

BILLING CODE 6050-28-P